DEPARTMENT OF DEFENSE

Department of the Air Force

Privacy Act of 1974; System of Records

AGENCY: Department of the Air Force, DOD.

ACTION: Notice to alter systems of records.

SUMMARY: The Department of the Air Force is proposing to alter a system of records notice in its existing inventory of record systems subject to the Privacy Act of 1974, (5 U.S.C. 552a), as amended. The alteration adds a new category of individuals covered, i.e., qualified DoD civilians.

DATES: This proposed action will be effective without further notice on February 27, 2002 unless comments are received which result in a contrary determination.

ADDRESSES: Send comments to the Air Force Privacy Act Manager, AF CIO/P, 1155 Air Force Pentagon, Washington, DC 20330-1155.

FOR FURTHER INFORMATION CONTACT: Mrs. Anne Rollins at (703) 601-4043 or DSN 329-4043.

SUPPLEMENTARY INFORMATION: The Department of the Air Force systems of records notices subject to the Privacy Act of 1974, (5 U.S.C. 552a), as amended, have been published in the Federal Register and are available from the address above.

The proposed system reports, as required by 5 U.S.C. 552a(r) of the Privacy Act of 1974, as amended, as submitted on January 15, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 17, 2002.
L.M. Bynum,
Alternate OSD Federal Register Liaison Officer, Department of Defense.

F036 AF PC U

System name:

Education Services Program Records (Individual) (April 14, 1999, 64 FR 18406).

Changes:

* * * * *

System name:

Delete entry and replace with “Air Force Automated Education Management System (AFAEMS)”.

* * * * *

Categories of individuals covered:

Delete entry and replace with “All officers, airmen and qualified DoD Civilians who participate in the Education Services Program and the Tuition Assistance Program.”

Categories of records in the system:

Delete entry and replace with “Pertinent education data maintained in an educational file folder may be forms for Air Force, Active Duty Service Commitment; Notice of Student Withdrawal/Non-completion; Individual Record-Education Services Program; Academic Education Data; Authority for Tuition Assistance—Education Services Program; Cash Collection for Voucher; Application for the Evaluation of Educational Experiences During Military Service; Pay Adjustment Authorization; Department of Veterans Affairs Application for Educational Assistance; Service person's Application for Educational Benefits; Academic evaluations and/or transcripts from schools; and Educational test results from testing agencies.”

* * * * *

Storage:

Delete entry and replace with “Student computer records are maintained on and, as necessary, reproduced from magnetic media. Paper records are maintained in file folders, card files, and special binders/cabinets designed for computer listings.”

Safeguards:

Delete last three sentences.

Retention and disposal:

Delete entry and replace with “Data stored digitally within the system is retained only for the period required to satisfy recurring processing requirements and/or historical requirements. Backup data files will be retained for a period not to exceed 45 days. Backup files are maintained only for system restoration and are not to be used to retrieve individual records. Computer records are destroyed by erasing, deleting or overwriting.”

Records are retained and disposed of in the following ways:

(1) For records pertaining to the individual's education level and progress: Give to individual when released from EAD, discharged, or destroy when no longer on active duty. For records pertaining to requests for tuition assistance, records supporting consolidation grade sheets, and cases of noncompliance or failure: Destroy after invoices have been paid and final grades have been recorded in Individual Record Education Services form.

(2) For records pertaining to funding documents, appropriation controls, supporting documents for monitoring obligations: Destroy two years after document's fiscal year appropriation has ended its “expired year” status and applicable fiscal year appropriation has been canceled.

* * * * *

Record source categories:

Add to entry “Education, training and personnel information is obtained from approved automated system interfaces.”

* * * * *

F036 AF PC U

System name:

Air Force Automated Education Management System (AFAEMS).

System location:

Headquarters United States Air Force, Directorate of Personnel Force Development, 1040 Air Force Pentagon, Washington, DC 20330-1040;

Headquarters Air Force Personnel Center, 550 C Street W, Randolph Air Force Base, TX 78150-4703; and

Headquarters of major commands and field operating agencies; Air Force Base Education Services Flights. Official mailing addresses are published as an appendix to the Air Force's compilation of system(s) of record notices.

Categories of individuals covered by the system:

All officers, airmen and qualified DoD Civilians who participate in the Education Services Program and the Tuition Assistance Program.

Categories of records in the system:

Pertinent education data maintained in an educational file folder may be forms for Air Force, Active Duty Service Commitment; Notice of Student Withdrawal/Non-completion; Individual Record-Education Services Program; Academic Education Data; Authority for Tuition Assistance—Education Services Program; Cash Collection for Voucher; Application for the Evaluation of Educational Experiences During Military Service; Pay Adjustment Authorization; Department of Veterans Affairs Application for Educational Assistance; Service person's Application for Educational Benefits; Academic evaluations and/or transcripts from schools; and Educational test results from testing agencies.

Authority for maintenance of the system:

10 U.S.C. 8013, Secretary of the Air Force; Air Force Instruction 36-2306, Operation and Administration of the Air Force Education Services Program and E.O. 9397 (SSN).

Purpose(s):

Counseling/Advisement Guide and Educational Registration Record used by Education Services Center staff personnel, Promotion and/or classification boards, and other authorized personnel such as military service schools, civilian schools, and supervisors of military personnel. The principle purpose is to provide a record of education endeavors and progress of Air Force personnel participating in Education Services Programs, to manage the tuition assistance program and to track enrollments and funding.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records may be disclosed to civilian schools for the purposes of ensuring correct enrollment and billing information.

The DoD “Blanket Routine Uses” published at the beginning of the Air Force's compilation of systems of records notices apply to this system.

Policies and practices for storing, retrieving, accessing, retaining, and disposing of records in the system:

Storage:

Student computer records are maintained on and, as necessary, reproduced from magnetic media. Paper records are maintained in file folders, card files, and special binders/cabinets designed for computer listings.

Retrievability:

Retrieved by name, Social Security Number, or tuition assistance document number.

Safeguards:

Records are accessed by custodian of the record system and by persons responsible for servicing the record system in performance of their official duties who are properly screened and cleared for need-to-know. Records are stored in locked cabinets or rooms, and in computer storage devices and protected by computer system software.

Retention and disposal:

Data stored digitally within the system is retained only for the period required to satisfy recurring processing requirements and/or historical requirements. Backup data files will be retained for a period not to exceed 45 days. Backup files are maintained only for system restoration and are not to be used to retrieve individual records. Computer records are destroyed by erasing, deleting or overwriting.

Records are retained and disposed of in the following ways:

(1) For records pertaining to the individual's education level and progress: Give to individual when released from EAD, discharged, or destroy when no longer on active duty. For records pertaining to requests for tuition assistance, records supporting consolidation grade sheets, and cases of non-compliance or failure: Destroy after invoices have been paid and final grades have been recorded in Individual Record Education Services form.

(2) For records pertaining to funding documents, appropriation controls, supporting documents for monitoring obligations: Destroy two years after document's fiscal year appropriation has ended its “expired year” status and applicable fiscal year appropriation has been cancelled.

System manager(s) and address:

Chief, Voluntary Education Branch, Education Division, Directorate of Personnel Force Development, Headquarters United States Air Force (HQ USAF/DPDE), 1040 Air Force Pentagon, Washington, DC 20330-1040.

Commander, Headquarters, Air Force Personnel Center, 550 C Street West, Randolph Air Force Base, TX 78150-4750.

Notification procedure:

Individuals seeking to determine whether information about themselves is contained in this system should address written inquiries to or visit the agency officials at the respective installation education center. Official mailing addresses are published as an appendix to the Air Force's compilation of systems of records notices.

Record access procedures:

Individuals seeking access to information about themselves contained in this system should address written inquiries to or visit the agency officials at the respective installation education center. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Data gathered from the individual, data gathered from other personnel records, transcripts and/or evaluations from schools and test results from testing agencies. Education, training and personnel information is obtained from approved automated system interfaces.

Exemptions claimed for the system:

None.

[FR Doc. 02-1953 Filed 1-25-02; 8:45 am]

BILLING CODE 5001-08-M